DEPARTMENT OF COMMERCE

International Trade Administration

Announcement of Approved International Trade Administration Trade Mission

AGENCY: International Trade Administration, Department of Commerce.

SUMMARY: The United States Department of Commerce, International Trade Administration (ITA), is announcing one upcoming trade mission that will be recruited, organized, and implemented by ITA. This mission is: U.S. Aerospace & Defense Trade Mission to Romania & Poland, November 12-17, 2023. A summary of the mission is found below. Application information and more detailed mission information, including the commercial setting and sector information, can be found at the trade mission website: https://www.trade.gov/trade-missions. For each mission, recruitment will be conducted in an open and public manner, including publication in the Federal Register, posting on the Commerce Department trade mission calendar (https://www.trade.gov/trade-missions-schedule) and other internet websites, press releases to general and trade media, direct mail, broadcast fax, notices by industry trade associations and other multiplier groups, and publicity at industry meetings, symposia, conferences, and trade shows.

FOR FURTHER INFORMATION CONTACT: Jeffrey Odum, Events Management Task Force, International Trade Administration, U.S. Department of Commerce, 1401 Constitution Avenue NW, Washington, DC 20230; telephone (202) 482-6397 or email Jeffrey.Odum@trade.gov.

SUPPLEMENTARY INFORMATION:

The Following Conditions for Participation Will Be Used for the Mission

Applicants must submit a completed and signed mission application and supplemental application materials, including adequate information on their products and/or services, primary market objectives, and goals for participation that is adequate to allow the Department of Commerce to evaluate their application. If the Department of Commerce receives an incomplete application, the Department of Commerce may either: reject the application, request additional information/clarification, or take the lack of information into account when evaluating the application. If the requisite minimum number of participants is not selected for a particular mission by the recruitment deadline, the mission may be cancelled.

Each applicant must also certify that the products and services it seeks to export through the mission are either produced in the United States, or, if not, are marketed under the name of a U.S. firm and have at least fifty-one percent U.S. content by value. In the case of a trade association or organization, the applicant must certify that, for each firm or service provider to be represented by the association/organization, the products and/or services the represented firm or service provider seeks to export are either produced in the United States or, if not, marketed under the name of a U.S. firm and have at least 51% U.S. content.

A trade association/organization applicant must certify the above for every company it seeks to represent on the mission. In addition, each applicant must:

• Certify that the products and services that it wishes to market through the mission would comply with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The Following Selection Criteria Will Be Used for the Mission

Targeted mission participants are U.S. firms, services providers and trade associations/organizations providing or promoting U.S. products and services that have an interest in entering or expanding their business in the mission's destination countries. The following criteria will be evaluated in selecting participants:

• Suitability of the applicant's (or in the case of a trade association/organization, represented firm's or service provider's) products or services to these markets;

• The applicant's (or in the case of a trade association/organization, represented firm's or service provider's) potential for business in the markets, including likelihood of exports resulting from the mission; and

• Consistency of the applicant's (or in the case of a trade association/organization, represented firm's or service provider's) goals and objectives with the stated scope of the mission.

Balance of company size and location may also be considered during the review process. Referrals from a political party or partisan political group or any information, including on the application, containing references to political contributions or other partisan political activities will be excluded from the application and will not be considered during the selection process. The sender will be notified of these exclusions. The Department of Commerce will evaluate applications and inform applicants of selection decisions on a rolling basis until the maximum number of participants has been selected.

Trade Mission Participation Fees

If and when an applicant is selected to participate in a particular mission, a payment to the Department of Commerce in the amount of the designated participation fee below is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is cancelled, no personal expenses paid in anticipation of a mission will be reimbursed. However, participation fees for a cancelled mission will be reimbursed to the extent they have not already been expended in anticipation of the mission.

If a visa is required to travel on a particular mission, applying for and obtaining such a visa will be the responsibility of the mission participant. Government fees and processing expenses to obtain such a visa are not included in the participation fee. However, the Department of Commerce will provide instructions to each participant on the procedures required to obtain business visas. Trade mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/travel/en/traveladvisories/traveladvisories.html/. Any question regarding insurance coverage must be resolved by the participant and its insurer of choice.

Definition of Small- and Medium-Sized Enterprise

For purposes of assessing participation fees, an applicant is a small or medium-sized enterprise (SME) if it qualifies as a “small business” under the Small Business Administration's (SBA) size standards (https://www.sba.gov/document/support--table-size-standards), which vary by North American Industry Classification System (NAICS) Code. The SBA Size Standards Tool (https://www.sba.gov/size-standards) can help you determine the qualifications that apply to your company.

Important Note About the Covid-19 Pandemic

Travel and in-person activities are contingent upon the safety and health conditions in the United States and the mission countries. Should safety or health conditions not be appropriate for travel and/or in-person activities, the Department will consider postponing the event or offering a virtual program in lieu of an in-person agenda. In the event of a postponement, the Department will notify the public and applicants previously selected to participate in this mission will need to confirm their availability but need not reapply. Should the decision be made to organize a virtual program, the Department will adjust fees, accordingly, prepare an agenda for virtual activities, and notify the previously selected applicants with the option to opt-in to the new virtual program.

Mission List: (additional information about trade missions can be found at https://www.trade.gov/trade-missions).

U.S. Aerospace & Defense Trade Mission to Romania & Poland, November 12-17, 2023

Summary

The International Trade Administration (ITA), the trade promotion arm of the United States Department of Commerce, is organizing a U.S. Aerospace & Defense Trade Mission to Romania & Poland, November 12-17, 2023. The objective for this mission is to advance U.S. national interests by giving U.S. companies an opportunity to provide aerospace and defense equipment, technology, and services to Romania and Poland, both impacted by the Russian invasion into Ukraine. Participating U.S. firms will gain market insights, make industry contacts, solidify business strategies, and advance specific projects, with the goal of increasing U.S. exports and services in the aerospace and defense sectors.

The mission will introduce U.S. firms to aerospace and defense stakeholders in the region and assist U.S. companies in finding foreign business partners to export their products and services to Romania and Poland. The mission will include customized one-on-one business appointments with pre-screened potential buyers, agents, distributors, and joint venture partners. It will also include meetings with government officials and industry leaders, as well as networking events. In Romania, companies will also have an opportunity to participate in site visits to Aerospace/Defense Production Facilities or an R&D Center. For companies new to the market, this will be an opportunity to make initial contacts and learn more about the large defense market in Central and Southeast Europe.

The mission will target up to fifteen (minimum 10) U.S. companies or trade associations that provide products and services related to a broad range of best prospective Aerospace & Defense subsectors in Romania & Poland.

Proposed Timetable

* Note: The final schedule and potential site visits will depend on the availability of host government and business officials, specific goals of mission participants, and ground transportation.

Sunday, November 12, 2023 | Arrive in Bucharest.
| Welcome No-Host Dinner.
Monday, November 13, 2023 | U.S. Embassy Briefing.
| Morning Conference “Romanian Defense Strategy and Business Opportunities” with Romanian Government Presentations.
| Networking Lunch.
| Trade Mission Meetings-Business to Government (B2G) Meetings.
| Evening Reception.
Tuesday November 14, 2023 | AM—Site Visits to Aerospace/Defense Production Facilities or R&D Center and B2B Meetings.
| Networking Lunch.
| PM—Trade Mission Meetings-B2B.
| Closing Reception.
Wednesday November 15, 2023 | AM—Travel to Warsaw, Poland.
| U.S. Embassy Briefing.
| Evening Reception.
Thursday November 16, 2023 | Full Day Matchmaking Meetings in Poland.
Friday November 17, 2023 | Half Day Matchmaking Meetings in Poland.
| Program Concludes.

Participation Requirements

All parties interested in participating in the trade mission must submit an application package for consideration by the Department of Commerce. All applicants will be evaluated on their ability to meet certain conditions and best satisfy the selection criteria as outlined below. A minimum of ten and maximum of fifteen companies or trade associations will be selected to participate in the mission from the applicant pool.

Fees and Expenses

After a firm or trade association has been selected to participate in the mission, a payment to the Department of Commerce in the form of a participation fee is required. The participation fee for this trade mission will be $4,530 for small or medium-sized enterprises (SME); and $6,260 for large firms or trade associations.¹ The fee for each additional firm representative (large firm or SME/trade organization) is $1,000 for two stops.

¹ For purposes of assessing participation fees, an applicant is a small or medium-sized enterprise (SME) if it qualifies under the Small Business Administration's (SBA) size standards (https://www.sba.gov/document/support--table-size-standards), which vary by North American Industry Classification System (NAICS) Code. The SBA Size Standards Tool (https://www.sba.gov/size-standards/) can help you determine the qualifications that apply to your company.

A firm or trade association/organization has the option to apply to participate in only one market. The participation fee for the Romania portion of the Trade Mission will be $2,910 for small or medium-sized enterprises (SMEs); and $3,730 for large firms or trade associations/organizations. The fee for each additional firm representative (large firm or SME/trade organization) is $1,000. The participation fee for the Poland portion of the Trade Mission will be $1,620 for small or medium-sized enterprises (SMEs); and $2,530 for large firms or trade associations/organizations. The fee for each additional firm representative (large firm or SME/trade organization) is $1,000.

Expenses for travel, lodging, meals, and incidentals will be the responsibility of each mission participant. Interpreter and driver services can be arranged for additional cost. Delegation members will be able to take advantage of U.S. Embassy rates for hotel rooms.

Timeframe for Recruitment and Applications

Mission recruitment will be conducted in an open and public manner, including publication in the Federal Register, posting on the Department of Commerce trade mission calendar (http://export.gov/trademissions), other internet websites, press releases to general and trade media, direct mail, notices by industry trade associations and other multiplier groups, and publicity at industry meetings, symposia, conferences, and trade shows. Recruitment for the mission will begin immediately and conclude no later than September 29th, 2023. The Department of Commerce will evaluate applications and inform applicants of selection decisions on a rolling basis until the maximum number of participants has been selected. Applications received after September 29th, 2023, will be considered only if space and scheduling constraints permit.

Contacts

Diane Mooney—Project Manager, Director, U.S. Commercial Service, Seattle, Office: 206-553-7251, Email: Diane.Mooney@trade.gov

Jason Sproule, Senior International Trade Specialist, U.S. Commercial Service, Los Angeles, Office: 949-283-0690, Email: Jason.Sproule@trade.gov

Frantz Eyssallenne—Recruitment Lead, International Trade Specialist, U.S. Commercial Service, Dallas—Fort Worth, Office: 469-424-7212, Email: Frantz.Eyssallenne@trade.gov

April Redmon, Director, U.S. Commercial Service, Arlington, Office 703-235-0103, Email: April.Redmon@trade.gov

Gemal Brangman,
Director, ITA Events Management Task Force.

[FR Doc. 2023-13436 Filed 6-23-23; 8:45 am]

BILLING CODE 3510-DR-P